NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725_17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: The Evaluation of NSF's Graduate Teaching Fellows in K-12 Education (GK-12) Program

OMB Control No.: 3145-NEW.

Expiration Date of Approval: Not applicable.

1. Abstract: This document has been prepared to support the clearance of data collection instruments to be used in the evaluation of the Graduate Teaching Fellows in K-12 Education (GK-12). GK-12 is a fellowship that offers graduate students and advanced undergraduates the opportunity to serve as resources for K-12 teachers of science and mathematics. The study design focuses on GK-12 projects funded during the period 1999-2002 and involves two types of studies. One consists of case studies of three cohorts of GK-12 projects. The second is a survey of all GK-12 projects funded in this time period. This OMB submission seeks clearance for data collection instruments for both studies.

2. Expected Respondents: The expected respondents are GK-12 Fellows, Cooperating Teachers in the school districts where the Fellows are placed, Principal Investigators, and other educators associated directly with the GK-12 Program.

3. Burden on the Public: The total estimate for this collection is 1,823 burden hours for a maximum of 3,645 participants assuming an 80-100% response rate. The average annual reporting burden is 2 hours per respondent. The burden on the public is negligible; the study is limited to project participants that have received funding from the NSF GK-12 program.

Dated: January 22, 2002.
Suzanne H. Plimpton,
Reports Clearance Officer, National Science Foundation.

[FR Doc. 02-1968 Filed 1-25-02; 8:45 am]

BILLING CODE 7555-01-M